DEPARTMENT OF COMMERCE

National Oceanic and Atmospheric Administration

RIN 0648-XC390

Pacific Fishery Management Council; Public Meetings and Hearings

AGENCY: National Marine Fisheries Service (NMFS), National Oceanic and Atmospheric Administration (NOAA), Commerce.

ACTION: Notice of availability of reports; public meetings, and hearings.

SUMMARY: The Pacific Fishery Management Council (Pacific Council) has begun its annual preseason management process for the 2013 ocean salmon fisheries. This document announces the availability of Pacific Council documents as well as the dates and locations of Pacific Council meetings and public hearings comprising the Pacific Council's complete schedule of events for determining the annual proposed and final modifications to ocean salmon fishery management measures. The agendas for the March and April 2013 Pacific Council meetings will be published in subsequent Federal Register documents prior to the actual meetings.

DATES: Written comments on the salmon management alternatives must be received by 11:59 p.m. Pacific Time, March 31, 2013.

ADDRESSES: Documents will be available from, and written comments should be sent to, Mr. Dan Wolford, Chairman, Pacific Fishery Management Council, 7700 NE Ambassador Place, Suite 101, Portland, OR 97220-1384, telephone: 503-820-2280 (voice) or 503-820-2299 (fax). Comments can also be submitted via email at PFMC.comments@noaa.gov. or through the internet at the Federal Rulemaking Portal: http://www.regulations.gov. Follow the instructions for submitting comments, and include the RIN number in the subject line of the message. For specific meeting and hearing locations, see supplementary information.

Council Address: Pacific Fishery Management Council, 7700 NE Ambassador Place, Suite 101, Portland, OR 97220.

FOR FURTHER INFORMATION CONTACT: Mr. Mike Burner, telephone: 503-820-2280.

SUPPLEMENTARY INFORMATION:

Schedule for Document Completion and Availability

February 15, 2013: “Review of 2012 Ocean Salmon Fisheries, Stock Assessment and Fishery Evaluation Document for the Pacific Coast Salmon Fishery Management Plan” will be mailed to the public and posted on the Pacific Council Web site at http://www.pcouncil.org.

March 1, 2013: “Preseason Report I-Stock Abundance Analysis and Environmental Assessment Part 1 for 2013 Ocean Salmon Fishery Regulations” will be mailed to the public and posted on the Pacific Council Web site at http://www.pcouncil.org.

March 20, 2013: “Preseason Report II-Proposed Alternatives and Environmental Assessment Part 2 for 2013 Ocean Salmon Fishery Regulations” and public hearing schedule will be mailed to the public and posted on the Pacific Council Web site at http://www.pcouncil.org. The report will include a description of the adopted salmon management alternatives and a summary of their biological and economic impacts.

April 22, 2013: “Preseason Report III- Council-Adopted Management Measures and Environmental Assessment Part 3 for 2013 Ocean Salmon Fishery Regulations” will be mailed to the public and posted on the Pacific Council Web site at http://www.pcouncil.org.

May 1, 2013: Federal regulations for 2013 ocean salmon regulations will be published in the Federal Register and implemented.

Meetings and Hearings

January 22-25, 2013: The Salmon Technical Team (STT) will meet at the Pacific Council office in a public work session to draft “Review of 2012 Ocean Salmon Fisheries” and to consider any other estimation or methodology issues pertinent to the 2013 ocean salmon fisheries.

February 19-22, 2013: The STT will meet at the Pacific Council office in a public work session to draft “Preseason Report I-Stock Abundance Analysis and Environmental Assessment Part 1 for 2013 Ocean Salmon Fishery Regulations” and to consider any other estimation or methodology issues pertinent to the 2013 ocean salmon fisheries.

March 25-26, 2013: Public hearings will be held to receive comments on the proposed ocean salmon fishery management options adopted by the Pacific Council. Written comments received at the public hearings and a summary of oral comments at the hearings will be provided to the Pacific Council at its April meeting.

All public hearings begin at 7 p.m. at the following locations:

March 25, 2013: Chateau Westport, Beach Room, 710 W Hancock, Westport, WA 98595, telephone 360-268-9101.

March 25, 2013: Red Lion Hotel, South Umpqua Room, 1313 N Bayshore Drive, Coos Bay, OR 97420, telephone 541-267-4141.

March 26, 2013: Red Lion Eureka, Humboldt Bay Room, 1929 Fourth Street, Eureka, CA 95501, telephone 707-445-0844.

Although nonemergency issues not contained in the STT meeting agendas may come before the STT for discussion, those issues may not be the subject of formal STT action during these meetings. STT action will be restricted to those issues specifically listed in this document and to any issues arising after publication of this document requiring emergency action under Section 305(c) of the Magnuson-Stevens Fishery Conservation and Management Act, provided the public has been notified of the STT's intent to take final action to address the emergency.

Special Accommodations

These public meetings and hearings are physically accessible to people with disabilities. Requests for sign language interpretation or other auxiliary aids should be directed to Mr. Kris Kleinschmidt at 503-820-2280 (voice), or 503-820-2299 (fax) at least five days prior to the meeting date.

Authority: 16 U.S.C. 1801 et seq.

Dated: December 6, 2012.
Emily H. Menashes,
Deputy Director, Office of Sustainable Fisheries, National Marine Fisheries Service.

[FR Doc. 2012-29969 Filed 12-11-12; 8:45 am]

BILLING CODE 3510-22-P